DEPARTMENT OF DEFENSE

Department of the Air Force

Headquarters United States Air Force Scientific Advisory Board

AGENCY: Department of the Air Force, DoD.

ACTION: Notice of meeting; correction.

SUMMARY: The Air Force published a notice of meeting of the Scientific Advisory Board in the Federal Register of August 15, 2003. The meeting date has changed.

FOR FURTHER INFORMATION CONTACT: Mr. Paul Hazell, Air Force Scientific Advisory Board Secretariat, 1180 Air Force Pentagon, Rm. 5D982, Washington, DC 20330-1180, (703) 693-8284.

Correction

In the Federal Register of August 15, 2003, 68 FR 48889, third column, the dates should be changed from September 2, 2003 to read October 22, 2003.

Pamela D. Fitzgerald,
Air Force Federal Register Liaison Officer.

[FR Doc. 03-24168 Filed 9-23-03; 8:45 am]

BILLING CODE 5001-05-P